DEPARTMENT OF THE INTERIOR

Bureau of Land Management

[LLAK930000 L16100000.DS0000.12XL]

Notice of Availability of the Draft Integrated Activity Plan/Environmental Impact Statement for the National Petroleum Reserve—Alaska and Announcement of Public Subsistence-Related Hearings

AGENCY: Bureau of Land Management, Interior.

ACTION: Notice.

SUMMARY: In accordance with the National Environmental Policy Act of 1969, as amended, the Naval Petroleum Reserves Production Act of 1976, as amended, and the Federal Land Policy and Management Act of 1976, as amended, the Bureau of Land Management (BLM) has prepared the National Petroleum Reserve—Alaska (NPR-A) Draft Integrated Activity Plan/Environmental Impact Statement (IAP/EIS) and by this notice is announcing the opening of the comment period. The BLM is also announcing that it will hold public meetings on the Draft IAP/EIS and subsistence resource hearings to receive comments on the Draft IAP/EIS and its potential to impact subsistence resources and activities.

DATES: To ensure that comments will be considered, the BLM must receive written comments on the Draft IAP/EIS on or before May 29, 2012, following the date the Environmental Protection Agency publishes its notice of the Draft IAP/EIS in the Federal Register. Public meetings on the Draft IAP/EIS will be held in the following communities in Alaska: Anaktuvuk Pass, Anchorage, Atqasuk, Barrow, Fairbanks, Nuiqsut, Point Lay, and Wainwright. Public hearings on subsistence resources and activities will occur in conjunction with the public meetings for the Draft IAP/EIS in the potentially affected communities of Anaktuvuk Pass, Atqasuk, Barrow, Nuiqsut, Point Lay, and Wainwright. The dates, times, and locations of the meetings and hearings will be announced through public notices, media news releases, and/or other mailings at least 15 days in advance.

ADDRESSES: You may submit comments related to the Draft IAP/EIS for the National Petroleum Reserve-Alaska by any of the following methods:

• Web site: http://www.blm.gov/ak/st/en.html.

• Fax: 866-611-9420 (toll Free) or 907-268-4224.

• Mail: NPR-A IAP/EIS Comments, AECOM Project Office, 1835 South Bragaw Street, Suite 490, Anchorage, AK 99508.

• Hand delivery: AECOM, 1835 South Bragaw Street, Suite 490, Anchorage, AK, or to the BLM Public Information Center in the Federal Building, 222 W. 7th Avenue, Anchorage, AK.

Copies of the Draft IAP/EIS are available for review at the BLM's Alaska Web site at http://www.blm.gov/ak/st/en.html. A CD or paper copy may be requested by calling Jim Ducker, BLM project lead, at 907-271-3130.

FOR FURTHER INFORMATION CONTACT: Jim Ducker, BLM Alaska State Office, 907-271-3130. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Please note that public comments and information submitted, including names, street addresses, and email addresses of persons who submit comments, will be available for public review and disclosure at the above address during regular business hours (8 a.m. to 4 p.m.) Monday through Friday except holidays.

Before including your address, phone number, email address, or other personal identifying information in your comment, you should be aware that your entire comment—including your personal identifying information—may be made publicly available at any time. While you can ask us in your comment to withhold your personal identifying information from public review, we cannot guarantee that we will be able to do so.

This IAP/EIS will result in a Record of Decision (ROD) that will supersede the RODs for two previous plans for portions of the NPR-A: The Northwest NPR-A IAP ROD signed January 22, 2004 and the Northeast NPR-A Supplemental IAP ROD signed July 16, 2008 and may amend the Colville River Special Area Management Plan signed July 18, 2008. This Draft IAP/EIS offers four alternatives for future management of the NPR-A. There is no Preferred Alternative.

Decisions to be made as part of the plan include, but are not limited to, lands that would be made available for oil and gas leasing, restrictions on oil and gas activities and other BLM-authorized land uses, expansion of the number and size of Special Areas, and recommendations for inclusion of rivers in the national Wild and Scenic Rivers System. None of the alternatives would preclude development of infrastructure across NPR-A in support of Chukchi Sea oil and gas development.

Alternative A is the No Action Alternative and represents the decisions made in the existing Northeast NPR-A and Northwest NPR-A plans. Those two plans do not address more than 9 million acres in the southwestern part of the NPR-A.

Alternatives B through D would make decisions for the entire NPR-A.

Alternative B would make 48 percent of the NPR-A available for oil and gas leasing, add more than 7 million acres of Special Areas, and recommend 12 rivers for Wild and Scenic River designation.

Alternative C would make 76 percent of the Reserve available for oil and gas leasing, add approximately 700,000 acres of Special Areas, and recommend three rivers for Wild and Scenic River designation.

Alternative D would make all of the NPR-A available for oil and gas leasing and would not expand Special Areas or recommend any Wild and Scenic River designation.

The public is encouraged to comment on any of these alternatives. The BLM asks that those submitting comments make them as specific as possible with reference to chapters, page numbers, and paragraphs in the Draft EIS document. Comments that contain only opinions or preferences will not receive a formal response; however, they will be considered and included as part of the BLM decision-making process. The most useful comments will contain new technical or scientific information, identify data gaps in the impact analysis, or will provide technical or scientific rationale for opinions or preferences.

Section 810 of the Alaska National Interest Lands Conservation Act requires the BLM to evaluate the effects of the alternatives presented in this Draft IAP/EIS on subsistence activities, and to hold public hearings if it finds that any alternative may significantly restrict subsistence activities. The analysis of environmental consequences indicates that actions anticipated to be taken under Alternative D and the cumulative impacts associated with actions anticipated under all alternatives may significantly restrict subsistence activities.

Therefore, the BLM will hold public hearings on subsistence in conjunction with the public meetings on the Draft IAP/EIS in the potentially affected communities of Anaktuvuk Pass, Atqasuk, Barrow, Nuiqsut, Point Lay, and Wainwright.

Ronald L. Dunton,
Acting State Director.

[FR Doc. 2012-7547 Filed 3-29-12; 8:45 am]

BILLING CODE 4310-JA-P